DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Logbook Family of Forms.

OMB Control Number: 0648-0016.

Form Number(s): NA.

Type of Request: Regular submission (revision and extension of a current information collection).

Number of Respondents: 4,161.

Average Hours per Response: Logbook reports, 10 minutes, except for live rock, 15 minutes and Colombian waters, 18 minutes; no-fishing responses, 2 minutes; discard reports, 15 minutes; annual fixed cost survey, 30 minutes.

Burden Hours: 15,946.

Needs and Uses: This request is for revision and extension of a current information collection.

Participants in most Federally-managed fisheries in the Southeast Region are currently required to keep and submit catch and effort logbooks from their fishing trips. A subset of these vessels also provide information on the species and quantities of fish, shellfish, marine turtles, and marine mammals that are caught and discarded or have interacted with the vessel's fishing gear. A subset of these vessels also provide information about dockside prices, trip operating costs, and annual fixed costs.

The data are used for scientific analyses that support critical conservation and management decisions made by national and international fishery management organizations. Interaction reports are needed for fishery management planning and to help protect endangered species and marine mammals. Price and cost data will be used in analyses of the economic effects of proposed regulations.

Revision: Logbooks for charter vessels, a new requirement in 2010, were never implemented.

Affected Public: Business or other for-profit organizations.

Frequency: Annually and per vessel trip.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 5, 2013.
Gwellnar Banks,
Management Analyst, Office of the Chief Information Officer.

[FR Doc. 2013-16610 Filed 7-10-13; 8:45 am]

BILLING CODE 3510-22-P